DEPARTMENT OF ENERGY

Federal Energy Regulatory Commission

[Project No. 11797-043]

Grande Pointe Power Corporation; Notice of Application for Amendment of License and Soliciting Comments, Motions To Intervene, and Protests

Take notice that the following hydroelectric application has been filed with the Commission and is available for public inspection:

a. Application Type: Amendment of License.

b. Project No.: P-11797-043.

c. Date Filed: November 14, 2012.

d. Applicant: Grande Pointe Power Corporation.

e. Name of Project: Three Rivers Hydroelectric Project.

f. Location: The Three Rivers Hydroelectric Project is located on the St. Joseph River in the city of Three Rivers, St. Joseph County, Michigan.

g. Filed Pursuant to: Federal Power Act, 16 U.S.C. 791(a)-825(r).

h. Applicant Contact: Ms. Piper Title, P.E., Senior Civil Engineer, Lawson-Fisher Associates P.C., 525 West Washington Avenue, South Bend, Indiana 46601; Telephone: (574) 234-3167.

i. FERC Contact: Any questions on this notice should be addressed to Kelly Houff, Telephone (202) 502-6393 or Kelly.Houff@ferc.gov.

j. Deadline for filing comments, motions to intervene, and protests: 30 days from the issuance date of this notice.

Comments, protests, and interventions may be filed electronically via the Internet in lieu of paper. See 18 CFR 385.2001(a)(1)(iii) and the instructions on the Commission's Web site (http://www.ferc.gov/docs-filing/efiling.asp). Commenters can submit brief comments up to 6,000 characters, without prior registration, using the eComment system (http://www.ferc.gov/docs-filing/ecomment.asp) and must include name and contact information at the end of comments. The Commission strongly encourages electronic filings.

All documents (original and seven copies) filed by paper should be sent to: Secretary, Federal Energy Regulatory Commission, 888 First Street NE., Washington, DC 20426. Please include the project number (P-11797-043) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Application: The licensee proposes to amend the water surface elevation requirement of the impoundment set forth in article 402 of the license for the Three Rivers Project. Specifically, the licensee proposes to operate with the impoundment elevation at 798 feet National Geodetic Vertical Datum 1929 (NGVD29) and any elevation fluctuation shall not exceed 0.25 foot. The current impoundment elevation requirement under article 402 of the license is 797 feet NGVD29 ± 0.25 foot. However, the licensee states in its amendment application that at the time of the license application and request for water quality certification, the licensee referred to the incorrect datum at some point. Therefore, the reservoir level license requirement referenced 797 feet NGVD29 instead of the historic operating level of 798 feet NGVD29, the elevation prior to license issuance. The licensee is attempting to correct the datum error with an amendment to its license, but since the project has historically operated at an impoundment water surface elevation of 798 feet NGVD29, no actual change in project operation is proposed.

l. Locations of the Application: A copy of the application is available for inspection and reproduction at the Commission's Public Reference Room, located at 888 First Street NE., Room 2A, Washington, DC 20426, or by calling (202) 502-8371. This filing may also be viewed on the Commission's Web site using the “eLibrary” link at http://elibrary.ferc.gov/idmws/search/fercgensearch.asp. Enter the docket number excluding the last three digits (P-11797) in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Dated: November 29, 2012.
Kimberly D. Bose,
Secretary.

[FR Doc. 2012-29807 Filed 12-10-12; 8:45 am]

BILLING CODE 6717-01-P